DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Karen M. Ruggiero, Ph.D., Harvard University: On November 26, 2001, the U.S. Public Health Service (PHS) entered into a Voluntary Exclusion Agreement with Harvard University and Karen M. Ruggiero, Ph.D., former Assistant Professor, Department of Psychology at Harvard University. Based on the report of an inquiry conducted by Harvard University (Harvard Report), and related actions and findings by Harvard based on the Harvard Report, as well as additional analysis conducted by ORI in its oversight review, PHS found that Dr. Ruggiero engaged in scientific misconduct by fabricating data in research supported by the National Institutes of Health (NIH).

Specifically, PHS and Harvard University found that:

(1) Dr. Ruggiero fabricated three experiments, including data reported as having been obtained from a total of 240 participants, published in the following paper: Ruggiero, K.M. & Marx, D.M. “Less pain and more to gain: Why high-status group members blame their failure on discrimination.” Journal of Personality and Social Psychology, 77(4):774-784, 1999 (the “JPSP paper”). These experiments were also proposed in the “Research Plan” of an application submitted to the National Institute of Mental Health (NIMH), NIH, by Dr. Ruggiero in September 1997 for grant 1 R03 MH58586-01, which was acknowledged as a source of support in the JPSP paper. Dr. Ruggiero admits that she fabricated the data on the 240 participants in the JPSP paper. At her request, a notice of retraction of this paper appeared in the Journal of Personality and Social Psychology 81(2):178, 2001.

(2) Dr. Ruggiero fabricated two experiments, including data reported as having been obtained from a total of 360 participants, published in the following paper: Ruggiero, K.M., Steele, J., Hwang, A., & Marx, D.M. “Why did I get a “D'? The effects of social comparisons on women's attributions to discrimination.” Personality and Social Psychology Bulletin 26(10):1271-1283, 2000 (the “PSPB paper”). These experiments were also proposed in the “Research Plan” of the application submitted by Dr. Ruggiero in September 1997 for grant 1 R03 MH58586-01, which was acknowledged as a source of support in the PSPB paper. Dr. Ruggiero admits that she fabricated the data on the 360 participants in the PSPB paper. At her request, a notice of retraction of this paper appeared in the Personality and Social Psychology Bulletin 27(9):1237, 2001.

(3) Dr. Ruggiero's admittedly fabricated research from the JPSP and PSPB papers was cited in and served as the basis for an NIH Individual National Service Award application, F32 MH12868-01 and -01A1, formerly F32 HD41874, “Status effects in perceptions of preferential treatment,” submitted in August 2000 by one of Dr. Ruggiero's post-doctoral fellows, with Dr. Ruggiero listed as the sponsor.

(4) In connection with a Harvard School of Public Health grant application to NIH, 1 R01 HL065220-01, “Measuring racial discrimination for health research,” Dr. Ruggiero submitted a subcontract in September 2000 citing the admittedly fabricated research from the JPSP and PSPB papers in support of her qualifications to serve as a subcontractor.

(5) In July 1999 and July 2000, Dr. Ruggiero cited and included as “Preliminary Studies” her admittedly fabricated, PHS-supported research from the JPSP and PSPB papers in applications, “The ironic status effect,” that she submitted to the National Science Foundation.

The Voluntary Exclusion Agreement (Agreement) states that:

(1) Dr. Ruggiero agreed to exclude herself from any contracting or subcontracting with any agency of the United States Government and from eligibility for, or involvement in, nonprocurement transactions (e.g., grants and cooperative agreements) of the United States Government as defined in 45 CFR part 76(Debarment Regulations) for a period of five (5) years, beginning on November 26, 2001.

(2) Dr. Ruggiero agreed to exclude herself from serving in any advisory capacity to PHS, including but not limited to service on any PHS advisory committee, board, and/or peer review committee, or as a consultant for a period of five (5) years, beginning on November 26, 2001.

(3) Dr. Ruggiero agreed to submit a letter, with a copy to ORI and Harvard, to the Personality and Social Psychology Bulletin requesting retraction of the following paper: Ruggiero, K.M. & Major, B.N. “Group status and attributions to discrimination: Are low- or high-status group members more likely to blame their failure on discrimination?” Personality and Social Psychology Bulletin 24:821-838, 1998. Dr. Ruggiero further agreed that the letter submitted pursuant to this paragraph will state that the retraction is warranted “because serious questions exist concerning the validity of the data which relate solely to my own work and which do not implicate my coauthor in any way.” ORI received a copy of her letter to the editor, dated November 5, 2001.

(4) Dr. Ruggiero agreed to submit a letter, with a copy to ORI and Harvard, to Psychological Science requesting a retraction of the following paper: Ruggiero, K.M., Mitchell, J.P., Krieger, N., Marx, D.M., & Lorenzo, M.L. “Now you see it, now you don't: Explicit versus implicit measures of the personal/group discrimination discrepancy.” Psychological Science 22:57-67, 2000. Dr. Ruggiero further agreed that the letter submitted pursuant to this paragraph will state that the retraction is warranted “because I improperly excluded some participants who should have been included in the analyses and that this exclusion affected the reported results. Moreover, the improper exclusion of data was solely my doing and was not contributed to or known by my coauthors.” ORI received a copy of her letter to the editor, dated October 18, 2001.

FOR FURTHER INFORMATION CONTACT: Director, Division of Investigative Oversight, Office of Research Integrity, 5515 Security Lane, Suite 700, Rockville, MD 20852, (301) 443-5330.

Chris B. Pascal,
Director, Office of Research Integrity.

[FR Doc. 01-30627 Filed 12-11-01; 8:45 am]

BILLING CODE 4150-31-P